DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Outcome Measures (NOMs) for Substance Abuse Prevention—(OMB No. 0930-0230)—Revision

This is a revision to the previously OMB approved instrument for the Center for Substance Abuse Prevention's (CSAP) National Outcome Measures for Substance Abuse Prevention (NOMs). Data are collected from SAMHSA/CSAP grants and contracts where community and participant outcomes are assessed. The analysis of these data helps determine whether progress is being made in achieving SAMHSA/CSAP's mission. The primary purpose of this system is to promote the use among SAMHSA/CSAP grantees and contractors of common National Outcome Measures recommended by SAMHSA/CSAP with significant input from panels of experts and state representatives.

Approval of this information collection will allow SAMHSA to continue to meet Government Performance and Results Modernization Act of 2010 (GPRAMA) reporting requirements that quantify the effects and accomplishments of its discretionary grant programs which are consistent with OMB guidance, and address goals and objectives outlined in the Office of National Drug Control Policy's Performance Measures of Effectiveness.

Note that the only changes is the deletion of one question per instrument, the deletion of prior Fiscal Years, and the PPC program which was not funded. The question being deleted is

Has the Service Member experienced any of the following (select all that apply)

(a) Deployed in support of combat operations (e.g. Iraq or Afghanistan)

(b) Was physically injured during combat operations

(c) Developed combat stress symptoms/difficulties adjusting following deployment, including PTSD, depression, or suicidal thoughts

(d) Died or was killed

The total annual burden estimate is shown below:

SAMHSA/CSAP program | Number of grantees | Number of respondents | Number of responses | Responses per respondent | Hours/response | Total hours
FY 13
Science/Services:
Fetal Alcohol | 23 | 4,800 | 14,400 | 3 | 0.4 | 5,760
Capacity:
HIV | 122 | 31,964 | 95,892 | 3 | 0.4 | 38,357
SPF SIG | 35 |  |  | 0 |  |
SPF SIG/Community Level * |  | 29,925 | 29,925 | 1 | 0.4 | 11,970
SPF SIG/Program Level * |  | 9,100 | 27,300 | 3 | 0.4 | 10,920
PFS | 37 |  |  | 0 |  |
PFS/Community Level * |  | 37,000 | 37,000 | 1 | 0.4 | 14,800
Annual Average | 217 | 112,889 | 204,517 |  |  | 81,807
* The Strategic Prevention Framework State Incentive Grant (SPF SIG) and Partnerships for Success (PFS) have a three level evaluation: The Grantee, Community and Program Level. The Grantee level data will be pre-populated by SAMHSA. The use of the Community Level instrument is optional as they relate to targeted interventions implemented during the reporting period. At the program level, items will be selected in line with direct services implemented.

Send comments to Summer King, SAMHSA Reports Clearance Officer, Room 2-1057, 1 Choke Cherry Road, Rockville, MD 20857 OR email her a copy at summer.king@samhsa.hhs.gov. Written comments should be received within 60 days of this notice.

Summer King,
Statistician.

[FR Doc. 2012-31007 Filed 12-21-12; 4:15 pm]

BILLING CODE 4162-20-P